COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes service(s) from the Procurement List that were furnished by nonprofit agencies employing persons who are blind or have other severe disabilities.

DATES: Date added to and deleted from the Procurement List: September 04, 2022

ADDRESSES: Committee for Purchase From People Who Are Blind or Severely Disabled, 355 E Street SW, Suite 325, Washington, DC 20024-3243.

FOR FURTHER INFORMATION CONTACT: Michael R. Jurkowski, Telephone: (703) 785-6404, or email CMTEFedReg@AbilityOne.gov.

SUPPLEMENTARY INFORMATION:

Deletions

On 9/24/2021; 11/26/2021; 4/8/2022; 4/15/2022; and 5/13/2022, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following service(s) are deleted from the Procurement List:

Service(s)

Service Type: Administrative/General Support Services

Mandatory for: Department of Justice, Federal Bureau of Prisons, Federal Correctional Institution, Cumberland, MD

Designated Source of Supply: Columbia Lighthouse for the Blind, Washington, DC

Contracting Activity: FEDERAL PRISON SYSTEM, TERMINAL ISLAND, FCI

Service Type: Custodial and Related Services

Mandatory for: GSA PBS Region 3, Summersville Federal Building & Post Office, 449 Water Street, Summersville, WV

Designated Source of Supply: The Sheltered Workshop of Nicholas County, Inc., Craigsville, WV

Contracting Activity: PUBLIC BUILDINGS SERVICE, PBS R3

Service Type: Custodial service

Mandatory for: TSA, Central Illinois Regional Airport, Bloomington, IL, Airport Business Center, Bloomington, IL

Contracting Activity: PUBLIC BUILDINGS SERVICE, ACQUISITION MANAGEMENT DIVISION

Service Type: Janitorial/Custodial

Mandatory for: Air Traffic Control Tower: 6100 E.M. Dirksen Street, Peoria, IL

Designated Source of Supply: Community Workshop and Training Center, Inc., Peoria, IL

Contracting Activity: TRANSPORTATION, DEPARTMENT OF, DEPT OF TRANS

Service Type: Janitorial/Custodial

Mandatory for: US Fish and Wildlife Service, Great Swamp National Wildlife Refuge, Basking Ridge, NJ, 241 Pleasant Plains Road, Basking Ridge, NJ

Designated Source of Supply: Employment Horizons, Inc., Cedar Knolls, NJ

Contracting Activity: U.S. FISH AND WILDLIFE SERVICE, CONTRACTING AND GENERAL SERVICES DIV

Michael R. Jurkowski,
Acting Director, Business Operations.

[FR Doc. 2022-16818 Filed 8-4-22; 8:45 am]

BILLING CODE 6353-01-P